DEPARTMENT OF THE TREASURY

Internal Revenue Service

26 CFR Parts 1 and 602

[TD 9034]

RIN 1545-AW65

Education Tax Credit; Correction

AGENCY: Internal Revenue Service (IRS), Treasury.

ACTION: Correction to final regulations.

SUMMARY: This document contains corrections to final regulations that were published in the Federal Register on Thursday, December 26, 2002 (67 FR 78687), relating to the education tax credit.

DATES: This correction is effective December 26, 2002.

FOR FURTHER INFORMATION CONTACT: Marilyn E. Brookens (202) 622-4920 (not a toll-free number).

SUPPLEMENTARY INFORMATION:

Background

The final regulations that are the subject of these corrections are under section 25A of the Internal Revenue Code.

Need for Correction

As published, the final regulations contain errors that may prove to be misleading and are in need of clarification.

Correction of Publication

Accordingly, the publication of the final regulations (TD 9034), that were the subject of FR Doc. 02-32453, is corrected as follows:

§ 1.25A-3 [Corrected]

1. On Page 78694, Column 2, § 1.25A-3(d)(2), Example 4., line 1, the language “Prior to 1998, Student was not” is corrected to read “Prior to 1998, Student C was not”.

§ 1.25A-5 [Corrected]

2. On page 78696, Column 2, § 1.25A-5(c)(4), Example 1., line 2, the language “A, who lives on X's campus, $3,000 for” is corrected to read “A, who lives on University X's campus, $3,000 for”.

Cynthia E. Grigsby,
Chief, Regulations Unit, Associate Chief Counsel, (Procedure & Administration).

[FR Doc. 03-7732 Filed 4-1-03; 8:45 am]

BILLING CODE 4830-01-M